DEPARTMENT OF COMMERCE

National Oceanic and Atmospheric Administration

RIN 0648-XF753

Mid-Atlantic Fishery Management Council; Public Meeting

AGENCY: National Marine Fisheries Service, National Oceanic and Atmospheric Administration, Commerce.

ACTION: Notice; public meeting.

SUMMARY: The Mid-Atlantic Fishery Management Council's (MAFMC's) Demersal Committee will hold a public meeting.

DATES: The meeting will be held on Wednesday, November 8, 2017, from 1 p.m. to 5 p.m. and on Thursday, November 9, 2017, from 8 a.m. to 3 p.m.

ADDRESSES: The meeting will be held at the Royal Sonesta Harbor Court Baltimore, 550 Light St., Baltimore, MD 21202; telephone: (410) 234-0550.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The Demersal Committee will meet to further refine management options for the commercial summer flounder fishery under the Comprehensive Summer Flounder Amendment. The focus of the meeting will be on reviewing and refining draft commercial allocation alternatives. The agenda may also include discussions of federal commercial permit requalification options, draft revised Fishery Management Plan (FMP) goals and objectives for summer flounder, and options for FMP framework provisions that could be used to address landings flexibility policies in future actions. Meeting materials will be posted to http://www.mafmc.org/ prior to the meeting.

Special Accommodations

The meeting is physically accessible to people with disabilities. Requests for sign language interpretation or other auxiliary aid should be directed to M. Jan Saunders, (302) 526-5251, at least 5 days prior to the meeting date.

Dated: October 18, 2017.
Tracey L. Thompson,
Acting Deputy Director, Office of Sustainable Fisheries, National Marine Fisheries Service.

[FR Doc. 2017-22901 Filed 10-20-17; 8:45 am]

BILLING CODE 3510-22-P